DEPARTMENT OF LABOR

Employment and Training Administration

Investigations Regarding Certifications of Eligibility To Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted ivnestigations pursuant to section 221(a) of the Act.

The purpose of each of the investigations is to determine whether the workers are eligible to apply for adjustment assistance under Title II, chapter 2, of the Act. The investigation will further relate, as appropriate, to the determination of the date on which total or partial separations began or threatened to begin and the subdivision of the firm involved.

The petitioners or any other persons showing a substantial interest int he subject matter of the investigations may request a public hearing, provided such request is filed in writing with the Director, Division of Trade Adjustment Assistance, at the address shown below, not later than June 25, 2001.

Interested persons are invited to submit written comments regarding the subject matter of the investigations to the Director, Division of Trade Adjustment Assistance, at the address shown below, not later than June 15, 2001.

The petitions filed in this case are available for inspection at the Office of the Director, Division of Trade Adjustment Assistance, Employment and Training Administration, U.S. Department of Labor, Room C-5311, 200 Constitution Avenue, NW., Washington, DC 20210.

Signed at Washington, DC this 7th day of May, 2001.
Edward A. Tomchick,
Director, Division of Trade Adjustment Assistance.

Appendix
[Petitions instituted on 5/07/2001]
TA-W | Subject firm (petitioners) | Location | Date of petition | Product(s)
39,165 | E.C.I. Sportswear (UNITE) | New Bedford, MA | 04/23/2001 | Sportswear and Embroidery.
39,166 | Imperial Home Decor Group (PACE) | Plattsburgh, NY | 04/20/2001 | Converting Wallpaper.
39,167 | Maurice Silvera, Inc (Co.) | Lumberton, NC | 04/25/2001 | Men's Golf Shirts.
39,168 | Tamfelt, Inc. (Wkrs) | Canton, MA | 04/12/2001 | Paper Machine Clothing.
39,169 | Red Cap-VF Workwear (Wkrs) | Mathison, MS | 04/23/2001 | Work Clothes.
39,170 | Standard Corp. Mfg. Group (Co.) | Lugoff, SC | 04/10/2001 | Nylon Fiber.
39,171 | Leisure Daise Contracting (Wkrs) | Wallington, NJ | 04/23/2001 | Blouses, Pants and Slacks.
39,172 | Celanese Acetate (UNITE) | Rock Hill, SC | 04/24/2001 | Acetate Filament.
39,173 | DJ Summers (Co.) | New York, NJ | 04/23/2001 | Ladies' Dresses.
39,174 | Lady Hope Dress (UNITE) | Kulpmont, PA | 04/17/2001 | Dresses.
39,175 | Flextronics Binghamton (Co.) | Conklin, NY | 04/23/2001 | Printed Board Assembly.
39,176 | Fashion Group (The) (Wkrs) | Lafayette, TN | 04/17/2001 | Shirts and Jackets.
39,177 | Wano Tool Co. (Wkrs) | Wheeling, IL | 04/05/2001 | Printed Circuit Board Tools.
39,178 | Annalee Dolls (Wkrs) | Meredith, NH | 04/12/2001 | Soft Sculptured Dolls.
39,179 | Rockwell Collins (Wkrs) | Irvine, CA | 04/19/2001 | Repair Technicians.
39,180 | Art Unlimited (Co.) | New Halstein, WI | 04/17/2001 | Screen Print Sportswear.
39,181 | Southwire Company (Co.) | Osceola, AR | 04/12/2001 | Wire and Cable.
39,182 | JPM Co. of Pennsylvania (Co.) | Lewisburg, PA | 04/12/2001 | Cable Assemblies.
39,183 | Challenge Machinery (The) (Co.) | Grand Haven, MI | 04/17/2001 | Machinery.
39,184 | Electro Technology (Wkrs) | Muscle Shoals, AL | 04/18/2001 | Transformers.
39,185 | Cemex Kosmos Cement (IBM) | Pittsburgh, PA | 04/11/2001 | Gray Portland Cement.
39,186 | Renfro Hosiery (Wkrs) | Mount Airy, NC | 04/10/2001 | Socks.
39,187 | Jenson Apparel Group (Co.) | Fall River, MA | 04/17/2001 | Ladies' Suits.
39,188 | Rhoda Lee, Inc (UNITE) | New York, NY | 04/19/2001 | Markers to produce Blouses.
39,189 | Southern Glove (Co.) | Newton, NC | 04/20/2001 | Cotton Work Gloves.
39,190A | Wright's LLC (Co.) | Orwigsburg, PA | 04/19/2001 | Knit Fabrics and Knitted Outerwear.
39,190B | Wright's LLC (Co.) | Auburn, PA | 04/19/2001 | Knit Fabrics and Knitted Outerwear.
39,190 | Wright's LLC (Co.) | Allentown, PA | 04/19/2001 | Knit Fabrics and Knitted Outerwear.
39,191 | NVN Corp., Inc. (Wkrs) | Clifton, NJ | 04/03/2001 | Ladies' Coats.
39,192 | Epic Components Co. (Co.) | New Boston, MI | 04/18/2001 | Plastic Automobile and Truck Components.
39,193 | Dani Max (Wkrs) | New York, NY | 04/07/2001 | Ladies' Suits and Dresses.
39,194 | Miami Richard Grading (Wkrs) | Medley, FL | 04/23/2001 | Cut Fabric.
39,195 | Tyco Electronics (Co.) | Harrisonburg, VA | 04/18/2001 | Electronic Connectors.
39,196 | J.C. Viramontes (Co.) | El Paso, TX | 04/12/2001 | Denim Garments.
39,197 | Alken Ziegler Novi (Co.) | Novi. MI | 04/16/2001 | Transmission Tube.
39,198 | Stanley Mechanics Tools (Wkrs) | Dallas, TX | 04/14/2001 | Rachets, Sockets, Adapters.
39,199 | Party Shoes (UNITE) | Chicago, IL | 04/26/2001 | Dance Shoes.
39,200 | Corning Frequency Control (Wkrs) | Carlisle, PA | 04/20/2001 | Precision Crystals.
39,201 | Flexfab, LLC (Wkrs) | Hastings, MI | 04/11/2001 | Silicone Hoses.
39,202 | ECK Industries (GMP) | Manitowoc, WI | 04/26/2001 | Aluminum Castings.
39,203 | Lobelson and McCabe (Wkrs) | Chapel Hill, TN | 04/24/2001 | Ballet, Tap and Jazz Shoes.
39,204 | A-1 Manufacturing (Wkrs) | Brilliant, AL | 04/16/2001 | Men's Industrial Coveralls.
39,205 | Glass Works (USWA) | Weston, WV | 04/20/2001 | Mouth Blown Glass Ware.
39,206A | Semitool, Inc (Co.) | San Jose, CA | 04/20/2001 | Semiconductor Industry Equipment.
39,206B | Semitool, Inc (Co.) | Beaverton, OR | 04/20/2001 | Semiconductor Industry Equipment.
39,206C | Semitool, Inc (Co.) | Dallas, TX | 04/20/2001 | Semiconductor Industry Equipment.
39,206D | Semitool, Inc (Co.) | Austin, TX | 04/20/2001 | Semiconductor Industry Equipment.
39,206E | Semitool, Inc (Co.) | Tempe, AZ | 04/20/2001 | Semiconductor Industry Equipment.
39,206F | Semitool, Inc (Co.) | Cary, NC | 04/20/2001 | Semiconductor Industry Equipment.
39,206G | Semitool, Inc (Co.) | Nashua, NH | 04/20/2001 | Semiconductor Industry Equipment.
39,206H | Semitool, Inc (Co.) | Libby, MT | 04/20/2001 | Semiconductor Industry Equipment.
39,206 | Semitool, Inc (Co.) | Kalispell, MT | 04/20/2001 | Semiconductor Industry Equipment.
39,207 | Prairie Wood Products (Wkrs) | Prairie City, OR | 04/17/2001 | Lumber and Chips.
39,208 | RMG Foundry (USWA) | Mishawaka, IN | 04/23/2001 | Grey and Ductile Castings.
39,209 | Mayfair Mills (Wkrs) | Arcadia, SC | 04/10/2001 | Woven Cloth.
39,210 | General Electric (IBEW) | Houston, TX | 04/26/2001 | Switchboards, Power Panels.
39,211 | Burlington Industries (Co.) | Mt. Olive, NC | 04/24/2001 | Pinch Pleat Draperies.
39,212 | E.I. DuPont (Co.) | Camden, SC | 04/23/2001 | Nylon Synthetic Fiber.
39,213 | Chicago Specialties (Co.) | Chicago, IL | 04/23/2001 | Para Cresol.
39,214 | Bridgestone Firestone (USWA) | Bloomington, IL | 04/25/2001 | Tires—Off the Road, Earth Moving.
39,215 | Georgia Pacific (Wkrs) | Louisville, MS | 04/26/2001 | Wood Building Products.
39,216 | Bon L Campo (Wkrs) | El Campo, TX | 04/11/2001 | Structural Shapes of Aluminum.
39,217 | Brillcast, Inc. (Co.) | Grand Rapids, MI | 04/25/2001 | Functional and Decorative Parts.
39,218 | Compaq Computers (Wkrs) | Houston, TX | 04/23/2001 | Computers.
39,219 | Supreme Machined Products (Co.) | Spring Lake, MI | 04/23/2001 | Precision Screw Machine Parts.
39,220 | American Commercial (Co.) | Orrville, OH | 04/24/2001 | Constellation Cab and Components.
39,221 | Northwest Fourslide (Co.) | Sherwood, OR | 04/24/2001 | Metal Stampings for Printers.
39,222 | Butterick Company (Wkrs) | Altoona, PA | 04/18/2001 | Paper Clothing Patterns.
39,223 | Woodstock Lamp & Shade (Wkrs) | Old Forge, PA | 04/10/2001 | Lampshades.
39,224 | Centis, Inc (Wkrs) | Brea, CA | 04/25/2001 | Picture/Photo Display.
39,225 | Panther Pacific, Inc (Co.) | Lewisville, TX | 04/16/2001 | Uniform Pants and Jumpsuits.

[FR Doc. 01-15045 Filed 6-13-01; 8:45 am]

BILLING CODE 4510-30-M